DEPARTMENT OF THE INTERIOR

Bureau of Land Management

[AZ-050-01-1430-ES; AZA 31132]

Arizona: Notice of Realty Action; Classification of Public Land for Recreation and Public Purposes Lease or Conveyance, Yuma County, Arizona

AGENCY: Bureau of Land Management, Interior.

ACTION: Notice of realty action.

SUMMARY: The following described public land in Yuma County has been examined and found suitable for classification for lease or conveyance under the Recreation and Public Purposes (R&PP) Act, as amended (43 U.S.C. 869 et seq.). In accordance with section 7 of the Taylor Grazing Act, 43 U.S.C. 315f, and Executive Order No. 6910, the described land is hereby classified for disposal by R&PP conveyance. Public land affected is identified as follows:

Gila and Salt River Meridian, Yuma County, Arizona

T. 9 S., R. 22 W.,

Sec. 9, S½SW¼.

The area described contains 80 acres.

SUPPLEMENTARY INFORMATION: The City of Yuma (City), Arizona, has filed an R&PP application to construct a Regional Public Works Operation Facility that will provide wastewater collection and treatment for existing and new development in the East Mesa Area. This land is identified in the Yuma District Resource Management Plan, as amended, as having potential for disposal. Lease or conveyance of the land for recreation or public purposes would be in the public interest. The lease or conveyance, when issued, will contain the following terms, conditions, and reservations:

1. The provisions of the Recreation and Public Purposes Act and all applicable regulations of the Secretary of the Interior.

2. Rights-of-way for ditches and canals constructed by the authority of the United States. (Act of August 30, 1890 [43 U.S.C. 945])

3. All minerals shall be reserved to the United States, together with the right to prospect for, mine, and remove such deposits from the same under applicable law and regulations to be established by the Secretary of the Interior.

4. Those rights for a public highway that may have been granted by Congress pursuant to the Act of July 26, 1866, 43 U.S.C. (repealed 1976) (AZA 6389).

5. Those rights for a 100-foot-wide public road right-of-way, known as the “Area Service Highway” (AZA 23977).

Upon publication of this notice in the Federal Register, the land will be segregated from all other forms of appropriation under the public land laws, including the general mining laws, except for lease or conveyance under the Recreation and Public Purposes Act, leasing under the mineral leasing laws, and material disposal laws. For a period of 45 days from the date of publication of this notice in the Federal Register, interested people may submit comments regarding the proposed lease/conveyance or classification of the land to the Field Manager, Yuma Field Office, 2555 E. Gila Ridge Road, Yuma, Arizona 85365.

Classification Comments: Interested parties may submit comments involving the suitability of the land for a public works operation facility. Comments on the classification are restricted to whether the land is physically suited for the proposal, whether the use will maximize the future use or uses of the land, whether the use is consistent with local planning and zoning, or if the use is consistent with State and Federal programs.

Application Comments: Interested parties may submit comments regarding the specific use proposed in the application and plan of development, whether the Bureau of Land Management followed proper administrative procedures in reaching the decision, or any other factor not directly related to the suitability of the land for a public works operation facility. Any adverse comments will be reviewed by the Arizona State Director. In the absence of any adverse comments, the classification will become effective 60 days from the date of publication of this notice in the Federal Register.

FOR FURTHER INFORMATION CONTACT: Francis Rodriguez, Realty Specialist, Yuma Field Office, 2555 E. Gila Ridge Road, Yuma, Arizona 85365, telephone (520) 317-3213.

Dated: May 16, 2001.
Maureen A. Merrell,
Assistant Field Manager, Business and Fiscal Services/Acting Field Manager.

[FR Doc. 01-13589 Filed 5-30-01; 8:45 am]

BILLING CODE 4310-32-P